DEPARTMENT OF THE INTERIOR

Bureau of Land Management

[ES-960-1910-BJ-4489] ES-50827, Group 23, Illinois

Notice of Filing of Plat of Survey; Illinois

The plat of the survey of the subdivision of section 3 with an amended portion of the Rend Lake acquisition boundary, in Township 6 South, Range 2 East of the 3rd Principal Meridian, Illinois, will be officially filed in Eastern States, Springfield, VA at 7:30 a.m., on November 9, 2000.

The survey was requested by the U.S. Army Corps of Engineers.

All inquiries or protests concerning the technical aspects of the survey must be sent to the Chief Cadastral Surveyor, Eastern States, Bureau of Land Management, 7450 Boston Boulevard, Springfield, VA 22153, prior to 7:30 a.m., November 9, 2000.

Copies of the plat will be made available upon request and prepayment of the appropriate fee.

Dated: September 25, 2000.
Stephen G. Kopach,
Chief Cadastral Surveyor.

[FR Doc. 00-25764 Filed 10-5-00; 8:45 am]

BILLING CODE 4310-GJ-P